DEPARTMENT OF COMMERCE

International Trade Administration

[A-122-845, A-122-847]

Notice of Postponement of Preliminary Antidumping Duty Determinations: Certain Durum Wheat and Hard Red Spring Wheat from Canada

AGENCY: Import Administration, International Trade Administration, Department of Commerce.

SUMMARY: The Department of Commerce is extending the time limit for the preliminary determinations in the antidumping duty investigations on certain durum wheat and hard red spring wheat from Canada from March 12, 2003 until no later than May 1, 2003. This extension is made pursuant to section 733(c)(1)(B) of the Tariff Act of 1930, as amended by the Uruguay Round Agreements Act.

EFFECTIVE DATE: January 31, 2003.

FOR FURTHER INFORMATION CONTACT: Jarrod Goldfeder at (202) 482-0189 or Cole Kyle at (202) 482-1503, Import Administration, International Trade Administration, U.S. Department of Commerce, 14th Street and Constitution Avenue, NW, Washington, DC 20230.

Postponement of Preliminary Determinations

On October 29, 2002, the Department of Commerce (“the Department”) published the initiation of the antidumping duty investigations of imports of certain durum wheat and hard red spring wheat from Canada (see Notice of Initiation of Antidumping Duty Investigations: Certain Durum Wheat and Hard Red Spring Wheat from Canada, 67 FR 65947 (October 29, 2002) (“Initiation Notice”)). The Initiation Notice stated that we would make our preliminary determinations for these antidumping duty investigations no later than March 12, 2003, 140 days after the date of issuance of the initiation.

Pursuant to section 733(c)(1)(B) of the Tariff Act of 1930, as amended by the Uruguay Round Agreements Act (“the Act”), the Department can extend the period for reaching a preliminary determination until no later than the 190th day after the date on which the administrating authority initiates an investigation if:

(B) the administrating authority concludes that the parties concerned are cooperating and determines that

(i) the case is extraordinarily complicated by reason of

(I) the number and complexity of the transactions to be investigated or adjustments to be considered,

(II) the novelty of the issues presented, or

(III) the number of firms whose activities must be investigated, and (ii) additional time is necessary to make the preliminary determination.

Regarding the first requirement, we find that all concerned parties are cooperating in each case.

Regarding the second requirement, we find that these cases are extraordinarily complicated because of the novelty of the issues presented. Specifically, the Department requires additional time to examine all relevant facts pertaining to whether a particular market exists in the Canadian market in accordance with section 773(a)(1)(C)(iii) of the Act. Furthermore, once we have determined the appropriate comparison market for these investigations, we need adequate time to gather and analyze the appropriate sales data from the respondent.

Pursuant to section 733(c)(1)(B) of the Act, we have determined that these cases are extraordinarily complicated and that additional time is necessary to make our preliminary determinations. Therefore, we are postponing the preliminary determinations until no later than May 1, 2003.

This notice is published pursuant to section 733(c)(2) of the Act.

Dated: January 24, 2003.
Faryar Shirzad,
Assistant Secretary for Import Administration.

[FR Doc. 03-2329 Filed 1-30-03; 8:45 am]

BILLING CODE 3510-DS-S